DEPARTMENT OF COMMERCE

National Oceanic and Atmospheric Administration

RIN 0648-XE283

Takes of Marine Mammals Incidental to Specified Activities; Taking Marine Mammals Incidental to Geophysical Surveys in the Atlantic Ocean

AGENCY: National Marine Fisheries Service (NMFS), National Oceanic and Atmospheric Administration (NOAA), Commerce.

ACTION: Proposed incidental harassment authorizations; extension of public comment period.

SUMMARY: On June 6, 2017, NMFS published a Federal Register notice of five proposed incidental harassment authorizations (IHAs), pursuant to the Marine Mammal Protection Act (MMPA), to incidentally harass marine mammals during the conduct of geophysical survey activity in the Atlantic Ocean, with comments due by July 6, 2017. In response to requests to extend the public comment period, NMFS has extended the public comment period by an additional 15 calendar days. Comments are now due no later than July 21, 2017.

DATES: The deadline for receipt of comments on the proposed IHA notice that was published on June 6, 2017 (82 FR 26244), is extended to July 21, 2017. NMFS must receive written comments and information on or before July 21, 2017.

ADDRESSES: Comments on the application should be addressed to Jolie Harrison, Chief, Permits and Conservation Division, Office of Protected Resources, National Marine Fisheries Service. Physical comments should be sent to 1315 East-West Highway, Silver Spring, MD 20910 and electronic comments should be sent to ITP.Laws@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at www.nmfs.noaa.gov/pr/permits/incidental/oilgas.htm without change. All personal identifying information (e.g., name, address) voluntarily submitted by the commenter may be publicly accessible. Do not submit confidential business information or otherwise sensitive or protected information.

Information Solicited: NMFS is seeking public input on these requests for authorization as outlined below and request that interested persons submit information, suggestions, and comments concerning the applications. We will only consider comments that are relevant to marine mammal species that occur in U.S. waters of the Mid- and South Atlantic and the potential effects of geophysical survey activities on those species and their habitat.

Comments indicating general support for or opposition to hydrocarbon exploration or any comments relating to hydrocarbon development (e.g., leasing, drilling) are not relevant to this request for comments and will not be considered. Comments should indicate whether they are general to the proposed authorizations described herein or are specific to one or more of the five proposed authorizations, and should be supported by data or literature citations as appropriate.

FOR FURTHER INFORMATION CONTACT: Ben Laws, Office of Protected Resources, NMFS, (301) 427-8401.

SUPPLEMENTARY INFORMATION:

Availability

Electronic copies of the applications and supporting documents, as well as a list of the references cited in this document, may be obtained online at: www.nmfs.noaa.gov/pr/permits/incidental/oilgas.htm. In case of problems accessing these documents, please call the contact listed above.

Background

On June 6, 2017, NMFS published a notice of five proposed IHAs in response to five different requests for such authorization pursuant to MMPA section 101(a)(5)(D), with a 30-day public comment period (82 FR 26244). The 30-day public comment period on the proposed IHAs ends on July 6, 2017. Since then, NMFS has received multiple requests for extension of the public comment period. In consideration of these requests, NMFS has extended the comment period an additional 15 days, to July 21, 2017.

NMFS refers readers to the June 6, 2017, Federal Register notice of the proposed IHAs and the accompanying analysis (82 FR 26244) for details and background information concerning the proposed actions, as this notice does not repeat the information.

Request for Public Comments

We request comment on our analyses, the draft authorizations, and any other aspect of our original Notice of Proposed IHAs for the proposed geophysical survey activities (82 FR 26244; June 6, 2017). Please include with your comments any supporting data or literature citations to help inform our final decision on the individual requests for MMPA authorization.

Dated: June 29, 2017.
Donna S. Wieting,
Director, Office of Protected Resources, National Marine Fisheries Service.

[FR Doc. 2017-14077 Filed 7-3-17; 8:45 am]

BILLING CODE 3510-22-P